DEPARTMENT OF JUSTICE

Notice of Lodging of Consent Decree Pursuant to the Clean Water Act and the Resource Conservation and Recovery Act

Notice is hereby given that on March 24, 2004, a proposed consent Decree in United States v. Caribbean Petroleum Refining, L.P., Civil Action No. 99-1171 (SEC), was lodged with the United States District Court for the District of Puerto Rico.

The proposed Consent Decree resolves the United States' claims on behalf of the U.S. Environmental Protection Agency (“EPA”) for injunctive relief under the Clean Water Act and the Resource Conservation and Recovery Act (“RCRA”), subtitles C and I, against Caribbean Petroleum Refining, L.P. (“CPR”). Pursuant to the Consent Decree, CPR is required to comply with all terms and provisions, including the effluent limitations, of its NPDES Permit, comply with all CFR part 265, subparts G, H and K post closure care requirements for its Equalization Basin, including conducting groundwater monitoring or remediation pursuant to any EPA-approved groundwater plan, and comply with applicable requirements of Subtitle I of RCRA relating to underground storage tanks, including the federally enforceable Puerto Rico regulations provided at 40 CFR 282.102, that are applicable to all underground storage tanks located at the CPR Facility. In a prior, now final, settlement stipulation entered in CPR's bankruptcy proceeding, CPR agreed to pay a civil penalty of $1.3 million over six years.

The Department of Justice will receive for a period of thirty (30) days from the date of this publication comments relating to the proposed Consent Decree. Comments should be addressed to the Assistant Attorney General of the Environment and Natural Resources Division, Department of Justice, Washington, DC 20530, and should refer to United States v. Caribbean Petroleum Refining, L.P., Civil Action No. 99-1171 (SEC), D.J. Ref. 90-5-1-1-4058.

The proposed Consent Decree may be examined at the Office of the United States Attorney, District of Puerto Rico, Federal Office Building, Rm. 101, Carlos E. Chardon Avenue, Hato Rey, Puerto Rico 00918, and at the United States Environmental Protection Agency, Region II, 290 Broadway, New York, New York 10007-1866. During the public comment period, the proposed Consent Decree may also be examined on the following Department of Justice Web site, http://www.usdoj.gov/enrd/open.html. A copy of the proposed Consent Decree may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy of the proposed Consent Decree, please so note and enclose a check in the amount of $6.00 (25 cent per page reproduction cost) payable to the U.S. Treasury.

Ronald Gluck,
Assistant Chief, Environmental Enforcement Section, Environment and Natural Resources Division.

[FR Doc. 04-8665 Filed 4-15-04; 8:45 am]

BILLING CODE 4410-15-M